DEPARTMENT OF AGRICULTURE

Grain Inspection, Packers and Stockyards Administration

[04-AZ-A]

Opportunity for Designation To Provide Official Services in the Southwest Arizona Region

AGENCY: Grain Inspection, Packers and Stockyards Administration (USDA).

ACTION: Notice.

SUMMARY: Farwell Grain Inspection, Inc. (Farwell), has asked GIPSA to amend its designation to remove Maricopa, Pinal and Yuma Counties, Arizona, from their assigned geographic area. GIPSA has also identified the need for service in Santa Cruz County, Arizona. GIPSA is asking persons interested in providing official services in these Arizona counties to submit an application for designation.

DATES: Applications must be postmarked or sent by telecopier (fax) on or before January 7, 2005.

ADDRESSES: We invite you to submit applications and comments on this notice. You may submit applications and comments by any of the following methods:

• Hand Delivery or Courier: Deliver to Janet M. Hart, Chief, Review Branch, Compliance Division, GIPSA, USDA, Room 1647-S, 1400 Independence Avenue, SW., Washington, DC 20250.

• Fax: Send by facsimile transmission to (202) 690-2755, attention: Janet M. Hart.

• E-mail: Send via electronic mail to Janet.M.Hart@usda.gov.

• Mail: Send hardcopy to Janet M. Hart, Chief, Review Branch, Compliance Division, GIPSA, USDA, STOP 3604, 1400 Independence Avenue, SW., Washington, DC 20250-3604.

Read Applications and Comments: All applications and comments will be available for public inspection at the office above during regular business hours (7 CFR 1.27(b)).

FOR FURTHER INFORMATION CONTACT: Janet M. Hart, at (202) 720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

Farwell has asked GIPSA to remove the southwest Arizona region from its assigned geographic area. The southwest Arizona region consists of the following geographic area, in the State of Arizona: Maricopa, Pinal, and Yuma Counties, Arizona. These counties, along with Santa Cruz County, Arizona, where GIPSA has determined a need for service, are open for designation.

Section 7(f)(1) of the United States Grain Standards Act, as amended (USGSA), authorizes GIPSA Administrator, after determining that there is sufficient need for official services, to designate a qualified applicant to provide official services in a specified area after determining that the applicant is qualified and is better able than any other applicant to provide such official services. GIPSA is asking persons interested in providing official services in the Southwest Arizona region to submit an application for designation. The applicant selected for designation in the Southwest Arizona region will be assigned by GIPSA Administrator according to Section 7(f)(1) of the Act.

Interested persons are hereby given an opportunity to apply for designation to provide official services in the Southwest Arizona region under the provisions of Section 7(f) of the Act and section 800.196(d) of the regulations issued thereunder. Applications and other available information will be considered in determining which applicant will be designated.

Designation in the Southwest Arizona region is for the period beginning about April 1, 2005, and not to exceed 3 years as prescribed in section 7(g)(1) of the Act. Persons wishing to apply for designation should contact the Compliance Division at the address listed above for forms and information.

Authority: Pub. L 94-582, 90 Stat. 2867, as amended (7 U.S.C. 71 et seq.).

Dated: December 2, 2004.
Donna Reifschneider,
Administrator, Grain Inspection, Packers and Stockyards Administration.

[FR Doc. 04-26859 Filed 12-7-04; 8:45 am]

BILLING CODE 3410-EN-P